DEPARTMENT OF ENERGY

International Energy Agency Meeting

AGENCY: Department of Energy.

ACTION: Notice of meeting.

SUMMARY: A meeting involving the Industry Advisory Board (IAB) to the International Energy Agency (IEA) in connection with the IEA's Training Session and Disruption Simulation Exercise (ERE8) will be held at the OECD Conference Centre, 2 Rue André-Pascal, 75016 Paris, France, on June 29-30, 2016. The purpose of this notice is to permit participation in ERE8 by U.S. company members of the IAB.

DATES: June 29-30, 2016.

ADDRESSES: 2 Rue André-Pascal, 75016 Paris, France.

FOR FURTHER INFORMATION CONTACT: Thomas Reilly, Assistant General Counsel for International and National Security Programs, Department of Energy, 1000 Independence Avenue, SW., Washington, DC 20585, 202-586-5000.

SUPPLEMENTARY INFORMATION: In accordance with section 252(c)(1)(A)(i) of the Energy Policy and Conservation Act (42 U.S.C. 6272(c)(1)(A)(i)) (EPCA), the following notice of meetings is provided:

The ERE8 sessions will be held from 9:00 a.m.-5:30 p.m. on June 29, 2016 and from 9:30 a.m.-4:45 p.m. on June 30, 2016. The purpose of ERE8 is to train IEA Government delegates in the use of IEA emergency response procedures by reacting to a hypothetical oil supply disruption scenario.

The agenda for ERE8 is under the control of the IEA. ERE8 will involve break-out groups, the constitution of which is under the control of the IEA. The IEA anticipates that individual break-out groups will not include multiple IAB or Reporting Company representatives that would qualify them as separate “meetings” within the meaning of the Voluntary Agreement and Plan of Action to Implement the International Energy Program. It is expected that the IEA will adopt the following agenda:

Draft Agenda of the 2016 Eighth Emergency Response Exercise (ERE8)

Training Session and Disruption Simulation Exercise, 29-30 June 2016

OECD Conference Centre, 2, Rue André-Pascal, 75016 Paris, France

Day One: 29 June

Registration

Welcome to ERE8

Training Session 1

—Overview of IEA Emergency Response Policies

—Oil Markets During a Supply Disruption

—IEA Emergency Response Process

—Emergency Data Collection

Training Session 2

—Analysis of Previous ERE Scenario

—Media Perspective

Supply Disruption Scenario 1

—ERE8 Goals and Ground Rules, Scenario 1 Introduction and Breakout Session

Scenario 1 Plenary Session

Day Two: 30 June

Scenario 2: Introduction and Breakout Session

Scenario 2 Plenary Session

Scenario 3: Introduction and Breakout Session

Scenario 3 Plenary Session

ERE8 Round-Up and Concluding Remarks

As provided in section 252(c)(1)(A)(ii) of the Energy Policy and Conservation Act (42 U.S.C. 6272(c)(1)(A)(ii)), the meetings of the IAB are open to representatives of members of the IAB and their counsel; representatives of members of the IEA's Standing Group on Emergency Questions (SEQ) and the IEA's Standing Group on the Oil Markets (SOM); representatives of the Departments of Energy, Justice, and State, the Federal Trade Commission, the General Accountability Office, Committees of Congress, the IEA, and the European Commission; and invitees of the IAB, the SEQ, the SOM, or the IEA.

Issued in Washington, DC, June 16, 2016.
Thomas Reilly,
Assistant General Counsel for International and National Security Programs.

[FR Doc. 2016-14780 Filed 6-21-16; 8:45 am]

BILLING CODE 6450-01-P